DEPARTMENT OF DEFENSE

Office of the Secretary

[Docket ID: DoD-2015-OS-0032]

Notice of Availability (NOA) of an Environmental Assessment (EA) Addressing the Upgrade and Storage of Beryllium Metal at the DLA Strategic Materials Hammond, IN

AGENCY: Defense Logistics Agency, DoD.

ACTION: Notice of Availability (NOA) of an Environmental Assessment (EA) Addressing the Upgrade and Storage of Beryllium Metal at the DLA Strategic Materials Hammond, IN.

SUMMARY: The Defense Logistics Agency (DLA) announces the availability of an environmental assessment (EA) for the potential environmental impacts associated with the Proposed Action to upgrade and store beryllium at the DLA Strategic Materials Hammond, IN depot. The EA has been prepared as required under the National Environmental Policy Act (NEPA), (1969). In addition, the EA complies with DLA Regulation 1000.22. DLA has determined that the Proposed Action would not have a significant impact on the human environment within the context of NEPA. Therefore, the preparation of an environmental impact statement is not required.

DATES: Public comments will be accepted on or before May 11, 2015. Comments received by the end of the 30-day period will be considered when preparing the final version of the document. The EA is available electronically at http://www.dla.mil/InstallationSupport/Documents/EA-UpgradeAndStorageOfBeryllium-20141119.pdf.

ADDRESSES: You may submit comments to one of the following:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

FOR FURTHER INFORMATION CONTACT: Ira Silverberg at 703-767-0705 during normal business hours Monday through Friday, from 8:00 a.m. to 4:30 p.m. (EST) or by email: ira.silverberg@dla.mil.

Dated: April 7, 2015.
Aaron Siegel,
Alternate OSD Federal Register Liaison Officer, Department of Defense.

[FR Doc. 2015-08280 Filed 4-9-15; 8:45 am]

BILLING CODE 5001-06-P